ENVIRONMENTAL PROTECTION AGENCY

40 CFR Part 52

[EPA-R04-OAR-2018-0760; FRL-9991-45-Region 4]

Air Plan Approval; North Carolina; Revision To Permit Term for Non-Title V Air Quality Permits

AGENCY: Environmental Protection Agency (EPA).

ACTION: Proposed rule.

SUMMARY: The Environmental Protection Agency (EPA) is proposing to approve a State Implementation Plan (SIP) revision provided by the State of North Carolina, through the North Carolina Department of Environmental Quality, Division of Air Quality (NCDAQ), on January 12, 2018. The SIP revision makes changes to the State's combined construction and operating permit program for non-Title V sources. EPA is proposing to approve the revision to the North Carolina SIP because it is consistent with the Clean Air Act (CAA or Act).

DATES: Comments must be received on or before April 29, 2019.

ADDRESSES: Submit your comments, identified by Docket ID No. EPA-R04-OAR-2018-0760 at http://www.regulations.gov. Follow the online instructions for submitting comments. Once submitted, comments cannot be edited or removed from Regulations.gov. EPA may publish any comment received to its public docket. Do not submit electronically any information you consider to be Confidential Business Information (CBI) or other information whose disclosure is restricted by statute. Multimedia submissions (audio, video, etc.) must be accompanied by a written comment. The written comment is considered the official comment and should include discussion of all points you wish to make. EPA will generally not consider comments or comment contents located outside of the primary submission (i.e., on the web, cloud, or other file sharing system). For additional submission methods, the full EPA public comment policy, information about CBI or multimedia submissions, and general guidance on making effective comments, please visit http://www2.epa.gov/dockets/commenting-epa-dockets.

FOR FURTHER INFORMATION CONTACT: Evan Adams of the Air Regulatory Management Section, Air Planning and Implementation Branch, Air, Pesticides and Toxics Management Division, U.S. Environmental Protection Agency, Region 4, 61 Forsyth Street SW, Atlanta, Georgia 30303-8960. Mr. Adams can be reached by telephone at (404) 562-9009, or via electronic mail at adams.evan@epa.gov.

SUPPLEMENTARY INFORMATION:

I. Background and Analysis

North Carolina has a SIP-approved construction and operating permit program at 15 North Carolina Administrative Code (NCAC) 02Q.0300—Construction and Operation Permits.¹ These regulations set forth the State's process for issuing combined construction and operating permits. They do not apply to Title V permits issued by NCDAQ. See 15A NCAC 02Q.0301(a).

¹ In the table of North Carolina regulations federally approved into the SIP at 40 CFR 52.1770(c), 15A NCAC 02Q is referred to as “Subchapter 2Q—Air Quality Permits.”

On January 12, 2018, NCDAQ submitted a SIP revision to 15 NCAC 02Q.0308—Final Action on Permit Applications, which was state effective on January 1, 2015.² The January 12, 2018, submittal requests minor typographical/administrative edits to 15 NCAC 02Q.0308. For example, the submittal fixes a grammar error in 15 NCAC 02Q.0308(b) by replacing the word “which” with the word “that” in the first sentence. In addition, the submittal changes the permit term (duration) for combined construction and operating permits from five years, or less as determined reasonable by the Director, to eight years. This permit term in Section .0308 affects only minor sources because sources subject to Title V (i.e., major sources) are subject to the separate operating permit term provisions of North Carolina's Title V program.

² EPA received this SIP revision on February 2, 2018.

II. EPA's Action

In this action, EPA is proposing to approve changes to 02Q Section .0308, Final Action on Permit Applications, included in the January 12, 2018, submittal. EPA has preliminarily concluded that the minor typographical/administrative edits are approvable because they do not alter the meaning of the rule, and that the revision to the permit term is approvable because it is not inconsistent with the Act, including the Agency's preconstruction review requirements at 40 CFR 51.160-164. EPA notes that the revision merely changes the duration of the permit from five years to eight years and does not affect any emission limits or other permit conditions. Thus, EPA does not believe the revision will interfere with any applicable requirement concerning attainment and reasonable further progress, or any other applicable requirement of the Act. EPA is accordingly proposing to approve the changes included in the January 12, 2018, submittal.

III. Incorporation by Reference

In this document, EPA is proposing to include in a final EPA rule regulatory text that includes incorporation by reference. In accordance with requirements of 1 CFR 51.5, EPA is proposing to incorporate by reference under Subchapter 02Q, Air Quality Permits of the North Carolina SIP, Section .0308, titled Final Action of Permit Applications, state effective January 1, 2015, which revises the permit renewal period for non-title V permits to eight years, and makes other administrative/typographical edits. EPA has made, and will continue to make, these materials generally available through www.regulations.gov and at the EPA Region 4 office (please contact the person identified in the For Further Information Contact section of this preamble for more information).

IV. Proposed Action

EPA is proposing to approve the SIP revision submitted by the NCDAQ on January 12, 2018, consisting of changes to 15 NCAC 02Q.0308, state effective January 1, 2015. These changes modify the permit term for non-title V combined construction and operating permits and make other typographical/administrative edits.

V. Statutory and Executive Order Reviews

Under the CAA, the Administrator is required to approve a SIP submission that complies with the provisions of the Act and applicable Federal regulations. See 42 U.S.C. 7410(k); 40 CFR 52.02(a). Thus, in reviewing SIP submissions, EPA's role is to approve state choices, provided that they meet the criteria of the CAA. This action merely proposes to approve state law as meeting Federal requirements and does not impose additional requirements beyond those imposed by state law. For that reason, this proposed action:

• Is not a significant regulatory action subject to review by the Office of Management and Budget under Executive Orders 12866 (58 FR 51735, October 4, 1993) and 13563 (76 FR 3821, January 21, 2011);

• Is not an Executive Order 13771 (82 FR 9339, February 2, 2017) regulatory action because SIP approvals are exempted under Executive Order 12866;

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

The SIP is not approved to apply on any Indian reservation land or in any other area where EPA or an Indian tribe has demonstrated that a tribe has jurisdiction. In those areas of Indian country, the rule does not have tribal implications as specified by Executive Order 13175 (65 FR 67249, November 9, 2000), nor will it impose substantial direct costs on tribal governments or preempt tribal law.

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Authority: 42 U.S.C. 7401 et seq.

Dated: March 18, 2019.
Mary S. Walker,
Acting Regional Administrator, Region 4.

[FR Doc. 2019-05979 Filed 3-27-19; 8:45 am]

BILLING CODE 6560-50-P